DEPARTMENT OF TRANSPORTATION

Federal Motor Carrier Safety Administration

49 CFR Parts 382 and 391

[Docket No. FMCSA-2011-0073]

RIN 2126-AB35

Harmonizing Schedule I Drug Requirements

AGENCY: Federal Motor Carrier Safety Administration, DOT.

ACTION: Final rule; correction.

SUMMARY: The Federal Motor Carrier Safety Administration (FMCSA) is correcting a Final Rule that appeared in the Federal Register on January 30, 2012 (77 FR 4479), which amended the physical qualifications for drivers and the instructions for the medical examination report to clarify that drivers may not use Schedule I drugs and be qualified to drive commercial motor vehicles (CMVs) under any circumstances.

DATES: Effective February 22, 2012.

FOR FURTHER INFORMATION CONTACT: If you have questions on this rule, call or e-mail Angela Ward, Nurse Consultant, Medical Programs Office, Federal Motor Carrier Safety Administration, telephone: 202-366-3109; email: angela.ward@dot.gov.

SUPPLEMENTARY INFORMATION: FMCSA's recent rule harmonizing Schedule I drug requirements included several changes to the Instructions to the Medical Examination Report for Commercial Driver Fitness Determination, form 649-F (6045). Although no changes were to be made to the form itself, due to a printing error, several changes were inadvertently made. The following correction reverses those changes.

In FR Doc. 2012-1905 appearing on page 4483 in the Federal Register of Monday, January 30, 2012, in Instruction 8, correct the form in § 391.43(f) to read as follows:

§ 391.43 Medical examination; certificate of physical examination.

* * * * *

(f) * * *

BILLING CODE 4910-EX-P

* * * * *

Issued on: January 31, 2012.
Larry Minor,
Associate Administrator for Policy.

[FR Doc. 2012-3978 Filed 2-21-12; 8:45 am]

BILLING CODE 4910-EX-C